DEPARTMENT OF ENERGY

Federal Energy Regulatory Commission

Combined Notice of Filings

Take notice that the Commission has received the following Natural Gas Pipeline Rate and Refund Report filings:

Filings Instituting Proceedings

Docket Numbers: RP23-230-000.

Applicants: Wyoming Interstate Company, L.L.C.

Description: § 4(d) Rate Filing: Negotiated Rate Agreement Filing (Black Hills) to be effective 12/1/2022.

Filed Date: 11/30/22.

Accession Number: 20221130-5197.

Comment Date: 5 p.m. ET 12/12/22.

Docket Numbers: RP23-231-000.

Applicants: El Paso Natural Gas Company, L.L.C.

Description: § 4(d) Rate Filing: Non-Conforming Negotiated Rate Agreement Filing (APS) to be effective 1/1/2023.

Filed Date: 11/30/22.

Accession Number: 20221130-5205.

Comment Date: 5 p.m. ET 12/12/22.

Docket Numbers: RP23-232-000.

Applicants: Northern Natural Gas Company.

Description: § 4(d) Rate Filing: 20221130 Negotiated Rate to be effective 12/1/2022.

Filed Date: 11/30/22.

Accession Number: 20221130-5259.

Comment Date: 5 p.m. ET 12/12/22.

Docket Numbers: RP23-233-000.

Applicants: Rockies Express Pipeline LLC.

Description: § 4(d) Rate Filing: REX 2022-11-30 Negotiated Rate Agreements to be effective 12/1/2022.

Filed Date: 11/30/22.

Accession Number: 20221130-5305.

Comment Date: 5 p.m. ET 12/12/22.

Docket Numbers: RP23-234-000.

Applicants: Algonquin Gas Transmission, LLC.

Description: Compliance filing: AGT New York Delivery Surcharge 2022 Filing to be effective 1/1/2023.

Filed Date: 12/1/22.

Accession Number: 20221201-5002.

Comment Date: 5 p.m. ET 12/13/22.

Docket Numbers: RP23-235-000.

Applicants: Texas Gas Transmission, LLC.

Description: § 4(d) Rate Filing: Neg Rate Agmt Amendments (TVA 35339, 35340, 35341, 35342) to be effective 12/1/2022.

Filed Date: 12/1/22.

Accession Number: 20221201-5016.

Comment Date: 5 p.m. ET 12/13/22.

Docket Numbers: RP23-236-000.

Applicants: Texas Gas Transmission, LLC.

Description: § 4(d) Rate Filing: Cap Rel Neg Rate Agmt (Jay-Bee 34446 to Macquarie 54042) to be effective 12/1/2022.

Filed Date: 12/1/22.

Accession Number: 20221201-5017.

Comment Date: 5 p.m. ET 12/13/22.

Docket Numbers: RP23-237-000.

Applicants: Alliance Pipeline L.P.

Description: § 4(d) Rate Filing: Hess 2023 Tioga Usage Charge Filing to be effective 1/1/2023.

Filed Date: 12/1/22.

Accession Number: 20221201-5019.

Comment Date: 5 p.m. ET 12/13/22.

Docket Numbers: RP23-238-000.

Applicants: Gulf South Pipeline Company, LLC.

Description: § 4(d) Rate Filing: Neg Rate Agmt (Methanex 52142) & Releases (NextEra 55771, Tenaska 55772, 55777) to be effective 12/1/2022.

Filed Date: 12/1/22.

Accession Number: 20221201-5020.

Comment Date: 5 p.m. ET 12/13/22.

Docket Numbers: RP23-239-000.

Applicants: Gulf South Pipeline Company, LLC.

Description: § 4(d) Rate Filing: Cap Rel Neg Rate Agmt (Osaka 46429 to Spotlight 55778, Texla 55779) to be effective 12/1/2022.

Filed Date: 12/1/22.

Accession Number: 20221201-5021.

Comment Date: 5 p.m. ET 12/13/22.

Docket Numbers: RP23-240-000.

Applicants: MountainWest Overthrust Pipeline, LLC.

Description: § 4(d) Rate Filing: WIC TSA 6344 Amendment No.1 to be effective 12/1/2022.

Filed Date: 12/1/22.

Accession Number: 20221201-5028.

Comment Date: 5 p.m. ET 12/13/22.

Docket Numbers: RP23-241-000.

Applicants: Sea Robin Pipeline Company, LLC.

Description: § 4(d) Rate Filing: Rate Case filed on 12-1-22 to be effective 1/1/2023.

Filed Date: 12/1/22.

Accession Number: 20221201-5040.

Comment Date: 5 p.m. ET 12/13/22.

Docket Numbers: RP23-242-000.

Applicants: Maritimes & Northeast Pipeline, L.L.C.

Description: § 4(d) Rate Filing: Negotiated Rates—Northern to Direct Energy 2739 eff 12-1-22 to be effective 12/1/2022.

Filed Date: 12/1/22.

Accession Number: 20221201-5043.

Comment Date: 5 p.m. ET 12/13/22.

Docket Numbers: RP23-243-000.

Applicants: Algonquin Gas Transmission, LLC.

Description: § 4(d) Rate Filing: Negotiated Rates—Various Releases eff 12-1-22 to be effective 12/1/2022.

Filed Date: 12/1/22.

Accession Number: 20221201-5047.

Comment Date: 5 p.m. ET 12/13/22.

Docket Numbers: RP23-244-000.

Applicants: Equitrans, L.P.

Description: § 4(d) Rate Filing: Negotiated Rate Capacity Release Agreements—12/1/2022 to be effective 12/1/2022.

Filed Date: 12/1/22.

Accession Number: 20221201-5048.

Comment Date: 5 p.m. ET 12/13/22.

Docket Numbers: RP23-245-000.

Applicants: Texas Eastern Transmission, LP.

Description: § 4(d) Rate Filing: Negoitated Rates—Various Releases eff 12-1-22 to be effective 12/1/2022.

Filed Date: 12/1/22.

Accession Number: 20221201-5050.

Comment Date: 5 p.m. ET 12/13/22.

Docket Numbers: RP23-246-000.

Applicants: Columbia Gas Transmission, LLC.

Description: § 4(d) Rate Filing: TCO PAL Negotiated Rate Agreements to be effective 12/1/2022.

Filed Date: 12/1/22.

Accession Number: 20221201-5096.

Comment Date: 5 p.m. ET 12/13/22.

Docket Numbers: RP23-247-000.

Applicants: Golden Triangle Storage, Inc.

Description: Compliance filing: Compliance filing 2022 Dec to be effective N/A.

Filed Date: 12/1/22.

Accession Number: 20221201-5097.

Comment Date: 5 p.m. ET 12/13/22.

Docket Numbers: RP23-248-000.

Applicants: Eastern Gas Transmission and Storage, Inc.

Description: Compliance filing: EGTS—December 1, 2022 Notice of Cancellation of Service Agreements to be effective N/A.

Filed Date: 12/1/22.

Accession Number: 20221201-5112.

Comment Date: 5 p.m. ET 12/13/22.

Docket Numbers: RP23-249-000.

Applicants: MarkWest Pioneer, L.L.C.

Description: § 4(d) Rate Filing: Quarterly Fuel Adjustment and Housekeeping to be effective 1/1/2023.

Filed Date: 12/1/22.

Accession Number: 20221201-5115.

Comment Date: 5 p.m. ET 12/13/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1155-001.

Applicants: Northwest Pipeline LLC.

Description: Compliance filing: NWP RP22-xxx Settlement Rates Compliance Filing to be effective 1/1/2023.

Filed Date: 11/30/22.

Accession Number: 20221130-5273.

Comment Date: 5 p.m. ET 12/12/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2022.
Kimberly D. Bose,
Secretary.

[FR Doc. 2022-26837 Filed 12-8-22; 8:45 am]

BILLING CODE 6717-01-P